DEPARTMENT OF COMMERCE

International Trade Administration

[A-475-828, A-557-809, A-565-801]

Stainless Steel Butt-Weld Pipe Fittings From Italy, Malaysia, and the Philippines: Continuation of Antidumping Duty Orders

AGENCY: Import Administration, International Trade Administration, Department of Commerce.

SUMMARY: As a result of the determinations by the Department of Commerce and the U.S. International Trade Commission that revocation of the antidumping duty orders on stainless steel butt-weld pipe fittings (butt-weld pipe fittings) from Italy, Malaysia, and the Philippines would likely lead to continuation or recurrence of dumping and material injury to an industry in the United States, the Department of Commerce is publishing a notice of continuation of these antidumping duty orders.

DATES: Effective Date: July 20, 2012.

FOR FURTHER INFORMATION CONTACT: Dena Crossland or Angelica Mendoza, AD/CVD Operations Office 7, Import Administration, International Trade Administration, U.S. Department of Commerce, 14th Street and Constitution Avenue NW., Washington, DC 20230; telephone: (202) 482-3362 and (202) 482-3019, respectively.

SUPPLEMENTARY INFORMATION:

Background

On February 23, 2001, the Department of Commerce (the Department) published the antidumping duty orders on butt-weld pipe fittings from Italy, Malaysia, and the Philippines.¹ On November 1, 2011, the Department published a notice of initiation of its second five-year (sunset) reviews of the antidumping duty orders on butt-weld pipe fittings from Italy, Malaysia, and the Philippines.²

¹ See Antidumping Duty Orders: Stainless Steel Butt-Weld Pipe Fittings From Italy, Malaysia, and the Philippines, 66 FR 11257 (February 23, 2001).

² See Initiation of Five-Year (“Sunset”) Review, 76 FR 67412 (November 1, 2011) (Initiation Notice).

As a result of these sunset reviews, the Department determined that revocation of the antidumping duty orders on butt-weld pipe fittings from Italy, Malaysia, and the Philippines would likely lead to continuation or recurrence of dumping and, therefore, notified the U.S. International Trade Commission (Commission) of the magnitude of the margins likely to prevail should these orders be revoked.³

³ See Stainless Steel Butt-Weld Pipe Fittings From Italy, Malaysia, and the Philippines: Final Results of the Expedited Second Five-Year (“Sunset”) Reviews of Antidumping Duty Orders, 77 FR 14002 (March 8, 2012) and accompanying Issues and Decision Memorandum.

On July 5, 2012, the Commission published its determination in the Federal Register, pursuant to section 751(c) of the Tariff Act of 1930, as amended (the Act), that revocation of the antidumping duty orders on butt-weld pipe fittings from Italy, Malaysia, and the Philippines would likely lead to a continuation or recurrence of material injury to an industry in the United States within a reasonably foreseeable time.⁴

⁴ See Stainless Steel Butt-Weld Pipe Fittings From Italy, Malaysia, and the Philippines, 77 FR 39735 (July 5, 2012), and USITC Publication 4225 (June 2012), titled Stainless Steel Butt-Weld Pipe Fittings From Italy, Malaysia, and the Philippines (Investigation Nos. 731-TA-865-867 (Second Review)).

Scope of the Orders

For purposes of the orders, the product covered is certain stainless steel butt-weld pipe fittings (butt-weld fittings). Butt-weld pipe fittings are under 14 inches in outside diameter (based on nominal pipe size), whether finished or unfinished. The product encompasses all grades of stainless steel and “commodity” and “specialty” fittings. Specifically excluded from the definition are threaded, grooved, and bolted fittings, and fittings made from any material other than stainless steel.

The butt-weld fittings subject to the orders are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by the orders.

The orders do not apply to cast fittings. Cast austenitic stainless steel pipe fittings are covered by specifications A351/A351M, A743/743M, and A744/A744M.

The butt-weld fittings subject to the orders are currently classifiable under subheading 7307.23.0000 of the Harmonized Tariff Schedule of the United States (HTSUS). Although the HTSUS subheadings are provided for convenience and customs purposes, the written description of the scope of the orders is dispositive.

Continuation of the Orders

As a result of the determinations by the Department and the Commission that revocation of the antidumping duty orders would likely lead to continuation or recurrence of dumping and material injury to an industry in the United States, pursuant to section 751(d)(2) of the Act, the Department hereby orders the continuation of the antidumping duty orders on butt-weld pipe fittings from Italy, Malaysia, and the Philippines.

U.S. Customs and Border Protection will continue to collect antidumping duty cash deposits at the rates in effect at the time of entry for all imports of subject merchandise. The effective date of the continuation of these orders will be the date of publication in the Federal Register of this notice of continuation. Pursuant to section 751(c)(2) of the Act, the Department intends to initiate the next sunset reviews of these orders not later than 30 days prior to the fifth anniversary of the effective date of continuation.

These sunset reviews and this notice are in accordance with section 751(c) of the Act and published pursuant to section 777(i)(1) of the Act.

Dated: July 11, 2012.
Ronald K. Lorentzen,
Acting Assistant Secretary for Import Administration.

[FR Doc. 2012-17769 Filed 7-19-12; 8:45 am]

BILLING CODE 3510-DS-P